NUCLEAR REGULATORY COMMISSION

10 CFR Part 72

[NRC-2025-0025]

RIN 3150-AL30

List of Approved Spent Fuel Storage Casks: NAC International, Inc., NAC-UMS® Universal Storage System, Certificate of Compliance No. 1015, Amendment No. 10, and Revision 1 to Amendment Nos. 5 Through 9

AGENCY: Nuclear Regulatory Commission.

ACTION: Direct final rule; confirmation of effective date.

SUMMARY: The U.S. Nuclear Regulatory Commission (NRC) is confirming the effective date of February 23, 2026, for the direct final rule that was published in the Federal Register on December 8, 2025. This direct final rule amended the certificate of compliance (CoC) to correct licensing basis deficiencies and updated the address in the CoC to reflect the new address of the applicant's headquarters offices.

DATES:

Effective date: The effective date of February 23, 2026, for the direct final rule published December 8, 2025 (90 FR 56657), is confirmed.

ADDRESSES: Please refer to Docket ID: NRC-2025-0025 when contacting the NRC about the availability of information for this action. You may obtain publicly available information related to this action by any of the following methods:

• Federal Rulemaking Website: Go to https://www.regulations.gov and search for Docket ID NRC-2025-0025. Address questions about NRC dockets to Helen Chang; telephone: 301-415-3228; email: Helen.Chang@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The revision of Certificate of Compliance No. 1015, the associated change(s) to the technical specification(s), and the final safety evaluation report(s) are available in ADAMS under Accession No. ML26007A266.

NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Amy McKenna, Office of Nuclear Material Safety and Safeguards, U.S. Nuclear Regulatory Commission, Washington, DC 20555-0001; email: amy.mckenna@nrc.gov.

SUPPLEMENTARY INFORMATION: On December 8, 2025 (90 FR 56657), the NRC published a direct final rule amending its regulations in part 72 of title 10 of the Code of Federal Regulations to correct licensing basis deficiencies and updates the address in the CoC to reflect the new address of the applicant's headquarters offices.

In the direct final rule, the NRC stated that if no significant adverse comments were received, the direct final rule would become effective on February 23, 2026. The NRC received and docketed one comment on the companion proposed rule (90 FR 56697; December 8, 2025). An electronic copy of the comment can be obtained from the Federal Rulemaking website at https://www.regulations.gov under Docket ID NRC-2025-0025 and is also available in ADAMS under Accession No. ML26012A381. The NRC evaluated the comment against the criteria described in the direct final rule and determined that the comment was not significant and adverse. Specifically, the comment was outside the scope of this rulemaking. The comment did not raise a relevant issue that was not previously addressed or considered by the NRC. It did not cause the NRC to either reevaluate its position or conduct additional analysis. It did not propose a change or an addition to the rule or cause the NRC to make a change to the rule, the certificate of compliance, or the accompanying technical specifications. Therefore, this direct final rule will become effective as scheduled.

Dated: January 27, 2026.
For the Nuclear Regulatory Commission.
Krupskaya Castellon,
Acting Chief, Regulatory Analysis and Rulemaking Support Branch, Division of Rulemaking, Environmental, and Financial Support Office of Nuclear Material Safety and Safeguards.

[FR Doc. 2026-01842 Filed 1-29-26; 8:45 am]

BILLING CODE 7590-01-P